NUCLEAR REGULATORY COMMISSION

Correction to Biweekly Notice Applications and Amendments to Operating Licenses Involving No Significant Hazards Consideration

On August 1, 2006 (71 FR 43539), the Federal Register published the “Biweekly Notice of Applications and Amendments to Operating Licenses Involving No Significant Hazards Considerations.” On Page 43539, Column 1, the very last line in the column, Amendment Nos. should read “294 and 277”.

Dated at Rockville, Maryland, this 3rd day of August 2006.
For the Nuclear Regulatory Commission
David H. Jaffe,
Senior Project Manager, Plant Licensing Branch III-1, Division of Operating Reactor Licensing, Office of Nuclear Reactor Regulation.

[FR Doc. E6-13111 Filed 8-9-06; 8:45 am]

BILLING CODE 7590-01-P